DEPARTMENT OF THE INTERIOR

Bureau of Land Management

[ID-310-08-1610-DO-061D]

Notice of Intent

AGENCY: Bureau of Land Management, Department of the Interior.

SUMMARY: The Bureau of Land Management (BLM), Upper Snake Field Office, intends to prepare a Resource Management Plan (RMP) and associated Environmental Impact Statement (EIS) for the Upper Snake Field Office of the Idaho Falls District in eastern Idaho. Publication of this Notice also initiates a public scoping period to extend until 15 days after the last public scoping meeting. The RMP will address management of approximately 1.8 million acres of public land and will replace the following land use plans: Big Desert Management Framework Plan (MFP) (1980), Big Lost MFP (1983), Little Lost-Birch Creek MFP (1985) and the Medicine Lodge RMP (1985).

DATES: A formal public scoping period will commence with publication of this Notice and extend until 15 days after the last public scoping meeting. The BLM will announce public open-house scoping meetings through the local news media and the BLM Web site at: http://www.blm.gov/id/st/en/fo/upper_snake/Planning/upper_snake_rmp.html. To encourage local community participation and involvement, public open houses will be held in the following locations: Idaho Falls, Rexburg, and Arco, Idaho. Specific dates and locations for these open houses are expected to be published in the Post Register, the Rexburg Standard Journal, and the Arco Advertiser in the spring of 2008.

Formal scoping will end 15 days after the last scoping open house meeting date. Comments on issues and planning criteria should be received on or before the end of the scoping period at the address listed below.

The public will have additional opportunities to participate in open houses throughout the planning process to work collaboratively with BLM in identifying the full range of issues to be addressed in the RMP/EIS, the planning criteria to be used and development of alternatives to be analyzed in the EIS. The BLM will also provide formal opportunities for public participation upon publication of the Draft RMP/EIS.

ADDRESSES: You may submit comments by any of the following methods:

• E-mail: upper_snake_rmp@blm.gov.

• Fax: (208) 524-7505.

• Mail: Bureau of Land Management, Attn: RMP Project Manager, Upper Snake Field Office, 1405 Hollipark Drive, Idaho Falls, ID 83401-2100.

Documents pertinent to this proposal may be examined at the Upper Snake Field Office at the above address.

FOR FURTHER INFORMATION CONTACT: For further information and/or to have your name added to our mailing list, Contact: Wendy Reynolds, Field Office Manager, Upper Snake Field Office, 1405 Hollipark Drive, Idaho Falls, ID 83401-2100, Telephone: (208) 524-7500; E-mail: upper_snake_rmp@blm.gov.

SUPPLEMENTARY INFORMATION: The Upper Snake Field Office and planning area for this RMP is located in north eastern Idaho, in Blaine, Bingham, Bonneville, Butte, Clark, Fremont, Jefferson, Madison, Power and Teton counties.

The planning area encompasses approximately 1.8 million acres of public land. The planning process will comply with the Federal Land Policy and Management Act of 1976 (FLPMA) and the National Environmental Policy Act of 1969 (NEPA). The RMP will replace the following land use plans: Big Desert Management Framework Plan (MFP) (1980), Big Lost MFP (1983), Little Lost-Birch Creek MFP (1985) and the Medicine Lodge RMP (1985).

The process this RMP/EIS will use is an open collaborative approach allowing Tribal governments, State and Federal agencies, local elected officials, interested individuals and an interdisciplinary team with BLM subject matter specialists to identify issues and concerns, and develop and analyze a reasonable range of alternatives for management of the public lands. The BLM will work collaboratively with interested parties to identify the management decisions that are best suited to local, regional, and national needs, interests and concerns. Agency representatives and interested persons are invited to visit with Upper Snake Field Office officials at any time during the EIS process. In addition, two specific time periods are identified for the receipt of formal comments. These two comment periods are:

(1) During the open house scoping process (ending 15 days after the last open house meeting date), and

(2) During the 90-day formal review period following release of the Draft RMP/EIS. This notice initiates the public scoping process to identify planning issues and to develop planning criteria. The purpose of the public scoping process is to determine relevant issues, concerns and ideas that will influence the scope of the environmental analysis and EIS alternatives. These issues also guide the planning process. The scoping process includes an evaluation of the existing land use plans in the context of the needs and interests of the public and tribal members.

Public scoping (open houses) to identify specific issues to be addressed in the RMP will offer an opportunity for the public to provide input. Subsequent opportunities for public involvement will occur at specific stages in the planning process. You may submit comments in writing to the BLM at any public scoping meeting, or you may submit them to the BLM using one of the methods listed in the ADDRESSES section above. To be most helpful, you should submit formal scoping comments within 15 days after the last public meeting. Individual respondents may request confidentiality, however, all submissions from agencies, organizations or businesses, and from individuals identifying themselves as representatives or officials of agencies, organizations or businesses, will be made available for public inspection in their entirety. Before including your address, phone number, e-mail address, or other personal identifying information in your comment, you should be aware that your entire comment—including your personal identifying information—may be made publicly available at any time. While you can ask us in your comment to withhold your personal identifying information from public review, we cannot guarantee that we will be able to do so.

In order to address issues and meet BLM planning requirements for determining public land uses, decisions may be made for air, soil, and water resources; vegetation (including noxious weeds); riparian areas; forestry management (including juniper woodlands); wildlife and fishery habitat; special status species (including threatened, endangered, candidate, and BLM sensitive species); livestock grazing; fire management; lands (including land tenure adjustments and rights-of-way); locatable, leasable, salable and fluid minerals; recreation (travel management); wilderness; visual resources; cultural and paleontological resources; hazardous materials; and special designations (including wild and scenic rivers and areas of critical environmental concern). In addition, decisions may be made regarding the conditions under which future fluid mineral leases will be issued by the field office.

After gathering public comments on which issues the plan should address, the suggested issues will be evaluated for their applicability to the planning process and categorized into one of the following three categories:

(1) Issues to be resolved in the plan;

(2) Issues resolved through policy or administrative action; or

(3) Issues beyond the scope of this plan.

This evaluation and categorization will be described in the plan with associated rationale. In addition to the issues to be resolved in the plan, a number of management questions and concerns will also be addressed. The public is encouraged to help identify these questions and concerns during the scoping period.

The BLM will use an interdisciplinary approach to develop the plan in order to consider the variety of resources and issues identified. Specialists with expertise in the disciplines corresponding to these issue areas will be represented and utilized during the planning process.

Dated: February 19, 2008.
Peter J. Ditton,
Associate State Director.

[FR Doc. E8-3677 Filed 2-27-08; 8:45 am]

BILLING CODE 4310-GG-P